DEPARTMENT OF COMMERCE

National Oceanic and Atmospheric Administration

RIN 0648-XC010

Marine Mammals; File No. 14325

AGENCY: National Marine Fisheries Service (NMFS), National Oceanic and Atmospheric Administration (NOAA), Commerce.

ACTION: Notice; receipt of application for permit amendment.

SUMMARY: Notice is hereby given that the Alaska Department of Fish and Game (ADF&G), Division of Wildlife Conservation, Juneau, AK, (Principal Investigator: Michael Rehberg), has applied for an amendment to Scientific Research Permit No. 14325-01 for taking Steller sea lions (Eumetopias jubatus) in Alaska.

DATES: Written, telefaxed, or email comments must be received on or before June 1, 2012.

ADDRESSES: The application and related documents are available for review by selecting “Records Open for Public Comment” from the Features box on the Applications and Permits for Protected Species home page, https://apps.nmfs.noaa.gov, and then selecting File No. 14325 from the list of available applications.

These documents are also available upon written request or by appointment in the following offices:

Permits and Conservation Division, Office of Protected Resources, NMFS, 1315 East-West Highway, Room 13705, Silver Spring, MD 20910; phone (301) 427-8401; fax (301) 713-0376; and

Alaska Region, NMFS, P.O. Box 21668, Juneau, AK 99802-1668; phone (907) 586-7221; fax (907) 586-7249.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits, Conservation and Education Division at the address listed above. The request should set forth the specific reasons why a hearing on this application would be appropriate.

FOR FURTHER INFORMATION CONTACT: Tammy Adams or Amy Sloan, (301) 427-8401.

SUPPLEMENTARY INFORMATION: The subject amendment to Permit No. 14325-01 is requested under the authority of the Marine Mammal Protection Act of 1972, as amended (16 U.S.C. 1361 et seq.), the regulations governing the taking and importing of marine mammals (50 CFR part 216), the Endangered Species Act of 1973, as amended (16 U.S.C. 1531 et seq.), the regulations governing the taking, importing, and exporting of endangered and threatened species (50 CFR 222-226), and the Fur Seal Act of 1966, as amended (16 U.S.C. 1151 et seq.).

Permit No. 14325, issued on August 17, 2009 (74 FR 44822), authorizes taking of marine mammals during continuation of a long-term research program investigating various hypotheses for the decline or lack of recovery of Steller sea lions in Alaska. The permit includes takes for: incidental disturbance during aerial surveys; disturbance of animals on rookeries and haulouts during brand resighting surveys, and incidental to scat collection; capture for instrument attachment, branding, capture method development, physiological research, and sample collection; permanent marking of pups for long-term demographic and distribution studies; capture of older animals for physiological assessment; and attachment of scientific instruments to investigate foraging ecology, diving behavior and habitat use. The permit also authorizes unintentional mortality of Steller sea lions, and incidental harassment of harbor seals (Phoca vitulina richardsi), northern fur seals (Callorhinus ursinus), and California sea lions (Zalophus californianus). The permit was amended (to version no. 14325-01) on November 16, 2011, to change the identity of the Principal Investigator from Dr. Lorrie Rea to Michael Rehberg.

The permit holder is requesting the permit be amended to include changes to the terms and conditions of the permit related to numbers of animals taken and to the location and manner of taking to include: manual restraint of pups in the eastern Distinct Population Segment (eDPS) and western DPS (wDPS); capture of adult Steller sea lions using remotely delivered immobilization agents; adding jugular blood draw/catheter location for sampling and Evans Blue injection; adding the intraperitoneal cavity to allowable deuterium injection sites; modifying time of year and number of takes for the Alsek/Akwe aerial surveys; and adding aerial surveys at Cape Newenham haulout and in the northern Bering Sea.

In compliance with the National Environmental Policy Act of 1969 (42 U.S.C. 4321 et seq.), an initial determination has been made that the activities proposed are consistent with the Preferred Alternative in the Final Programmatic Environmental Impact Statement for Steller Sea Lion and Northern Fur Seal Research (NMFS 2007), and that issuance of the permit would not have a significant adverse impact on the human environment.

Concurrent with the publication of this notice in the Federal Register, NMFS is forwarding copies of this application to the Marine Mammal Commission and its Committee of Scientific Advisors.

Dated: April 27, 2012.
Tammy C. Adams,
Acting Chief, Permits and Conservation Division, Office of Protected Resources, National Marine Fisheries Service.

[FR Doc. 2012-10629 Filed 5-1-12; 8:45 am]

BILLING CODE 3510-22-P